NUCLEAR REGULATORY COMMISSION

[Docket No. 50-368; NRC-2014-0106]

Entergy Operations, Inc.; Arkansas Nuclear One, Unit 2

AGENCY: Nuclear Regulatory Commission.

ACTION: License amendment application; withdrawal by applicant.

SUMMARY: The U.S. Nuclear Regulatory Commission (NRC) has granted the request of Entergy Operations, Inc., to withdraw its application dated April 4, 2012, for a proposed amendment to Renewed Facility Operating License No. NPF-6 for Arkansas Nuclear One (ANO), Unit 2. The proposed amendment would have changed the facility technical specifications to implement four Technical Specification Task Force (TSTF) travelers related to a revised fuel handling accident (FHA) analysis.

ADDRESSES: Please refer to Docket ID NRC-2014-0106 when contacting the NRC about the availability of information regarding this document. You may access publicly-available information related to this document using any of the following methods:

• Federal Rulemaking Web site: Go to http://www.regulations.gov and search for Docket ID NRC-2014-0106. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Peter Bamford, Office of Nuclear Reactor Regulation, U.S. Nuclear Regulatory Commission, Washington, DC 20555-0001; telephone: 301-415-2833, email: Peter.Bamford@nrc.gov.

SUPPLEMENTARY INFORMATION: The NRC has granted the request of Entergy Operations, Inc. (the licensee), to withdraw its April 4, 2012, application (ADAMS Accession No. ML12096A022), proposing an amendment to Renewed Facility Operating License No. NPF-6 for ANO, Unit 2, located in Russellville, Arkansas.

The proposed amendment incorporates the ANO, Unit 2, revised FHA based on the use of the Alternate Source Term (AST) methodology. This methodology was previously approved for use at ANO, Unit 2, as documented in an NRC safety evaluation dated April 26, 2011 (ADAMS Accession No. ML110980197). The original FHA analysis assumed failure of 60 fuel rods in a single fuel assembly. The revised analysis assumes the failure of all fuel rods in two fuel assemblies (472 rods). The changes necessary to support the revised FHA affect similar Technical Specifications (TSs) associated with the following NRC-approved TSTF Travelers: TSTF-51, Revision 2, “Revise Containment Requirements During Handling Irradiated Fuel and Core Alterations”; TSTF-272, Revision 1, “Refueling Boron Concentration Clarification”; TSTF-268, Revision 2, “Operations Involving Positive Reactivity Additions”; and TSTF-471, Revision 1, “Eliminate use of Term Core Alterations in Actions and Notes.” Therefore, the licensee proposed to adopt these TSTFs in conjunction with changes that reflect the revised FHA. Additionally, administrative and/or editorial errors noted on the affected TS pages were also proposed for correction.

The Commission had previously issued a Notice of Consideration of Issuance of Amendment published in the Federal Register on July 10, 2012 (77 FR 40652). However, by letter dated April 23, 2014 (ADAMS Accession No. ML14113A604), the licensee withdrew the proposed change.

For further details with respect to this action, see the application for amendment dated April 4, 2012, and supplements dated July 9, 2012, June 18, 2013, and July 1, 2013 (ADAMS Accession Nos. ML12192A089, ML13170A197, and ML13183A124, respectively).

Dated at Rockville, Maryland, this 30th day of April 2014.
For the Nuclear Regulatory Commission.
Peter Bamford,
Project Manager, Plant Licensing Branch IV-1, Division of Operating Reactor Licensing, Office of Nuclear Reactor Regulation.

[FR Doc. 2014-10587 Filed 5-7-14; 8:45 am]

BILLING CODE 7590-01-P